DEPARTMENT OF TRANSPORTATION

Office of the Secretary of Transportation

49 CFR Part 1

[Docket No.:OST-1999-6189]

RIN 9991-AA50

Organization and Delegation of Powers and Duties

AGENCY: Office of the Secretary of Transportation (OST), U.S. Department of Transportation (DOT).

ACTION: Correction of final rule.

SUMMARY: This action corrects a final rule published in the Federal Register on May 31, 2006 (71 FR 30828), which delegated various authorities vested in the Secretary of Transportation by the “Safe, Accountable, Flexible, Efficient Transportation Equity Act: A Legacy for Users” (Pub. L. 109-59) and other laws to the Research and Innovative Technology Administrator; the Federal Aviation Administrator; the Federal Highway Administrator; the Federal Railroad Administrator; the National Traffic Highway Safety Administrator; the Federal Transit Administrator; the Pipeline and Hazardous Materials Safety Administrator; the Federal Motor Carrier Safety Administrator; and the Under Secretary for Transportation Policy.

DATES: Effective Date: June 21, 2006.

FOR FURTHER INFORMATION CONTACT: Rebecca S. Behravesh, Attorney Advisor, Office of General Counsel, Department of Transportation, 400 7th St., SW., Room 10424, Washington, DC 20590-0001; Telephone (202) 366-9314.

Correction to Final Rule

The Office of the Secretary of Transportation (OST) hereby corrects two typographical errors in the final rule that was published in the Federal Register on May 31, 2006 (71 FR 30830), Organization and Delegation of Powers and Duties, Docket No. OST-1999-6189. On page 30830 of volume 71 of the Federal Register, instruction 5 is corrected to read as follows:

“Revise § 1.46(c), (d), (e), and (i) and add (l) and (m) to read as follows:”. On page 30833 of volume 71 of the Federal Register, instruction 10(c) is corrected to read as follows:

“Revise paragraph (b)(1) to read as follows:”.

Issued this 13th day of June, 2006, at Washington, DC.
Jeffrey A. Rosen,
General Counsel.

[FR Doc. E6-9731 Filed 6-16-06; 8:45 am]

BILLING CODE 4910-9X-P